DEPARTMENT OF EDUCATION

34 CFR Chapter III

[ED-2023-OSERS-0177]

Final Waiver and Extension of the Project Period With Funding for Innovative Rehabilitation Training Grants

AGENCY: Office of Special Education and Rehabilitative Services (OSERS), Department of Education.

ACTION: Final waiver and extension of project period with funding.

SUMMARY: The Secretary waives the requirements in the Education Department General Administrative Regulations that generally prohibit project periods exceeding five years and project period extensions involving the obligation of additional Federal funds. The waiver and extension enable seven projects under Assistance Listing Number (ALN) 84.263C to receive funding for an additional period, not to exceed September 30, 2025.

DATES: The waiver and extension of the project periods are effective December 27, 2023.

FOR FURTHER INFORMATION CONTACT: Felipe Lulli, U.S. Department of Education, 400 Maryland Avenue SW, Room 4A110, Washington, DC 20202. Telephone: 202-987-0128. Email: Felipe.Lulli@ed.gov.

If you are deaf, hard of hearing, or have a speech disability and wish to access telecommunications relay services, please dial 7-1-1.

SUPPLEMENTARY INFORMATION:

Background

On October 3, 2023, the Department published a notice in the Federal Register (84 FR 32135) proposing a waiver and extension of the project period with funding in order to enable seven projects under Assistance Listing Number (ALN) 84.263C to receive continuation funding for an additional 12-month period, not to exceed September 30, 2025. The proposed waiver and extension of the project period with funding would allow the Department to align those dates with that of awards funded under ALNs 84.263E and 84.263F, which will each receive their final year of funding in FY 2024, and end on September 30, 2025. Due to the overlapping goals of these three programs, the Department does not believe that it would be in the public interest to run a competition for ALN 84.263C in FY 2024. Rather, aligning the projects' periods of performance end dates for ALNs 84.263C, 84.263E, and 84.263F would reduce financial and administrative burden by allowing the Department to conduct a single competition for all 84.263C, 84.263E, and 84.263F grants in FY 2025, with a five-year performance period that would run from October 1, 2025, through September 30, 2030.

There are no differences between the notice of proposed waiver and extension of the project period with funding and this notice of final waiver and extension of the project period with funding, as discussed in the Analysis of Comments and Changes section of this document.

Public Comment

In response to our invitation in the notice of proposed waiver and extension of the project period with funding, two parties submitted comments.

Generally, we do not address technical and other minor changes or suggested changes the law does not authorize us to make under the applicable statutory authority. In addition, we do not address general comments that raised concerns not directly related to the proposed waiver and extension with funding.

Analysis of Comments and Changes

An analysis of the comments and of any changes in the priority since publication of the notice of proposed waiver and extension of the project period with funding follows.

Comment: One commenter expressed strong support for the proposed waiver and extension of the project period with funding noting the vital importance of the Innovation Rehabilitation Training projects to the Vocational Rehabilitation field. The commenter described first-hand experience serving on an advisory board of one of the Innovative Rehabilitation Training grants and evaluating their products. The commenter noted the value of the products to the vocational rehabilitation field in meeting the needs of individuals with disabilities.

Discussion: The Department appreciates support for the proposed waiver and extension of the project period with funding for the Innovative Rehabilitation Training grants.

Change: None.

Comment: One commenter analyzed whether the proposed waiver and extension of the project period with funding would lead to more efficient outcomes for the Innovative Rehabilitation Training program. The commenter presented one argument that extending the project period and providing additional funding would offer the Department streamlined decision-making and grantee flexibility to ensure the delivery of comprehensive, high-quality training that effectively meets the needs of their target populations. The commenter presented a counterargument that extending the project timeline might cause grantees to delay project milestones if they know extensions are readily available, leading to inefficiencies and prolonged timelines that do not guarantee improved outcomes. The commenter recommended the Department implement appropriate oversight procedures to alleviate possible risks and safeguard the effectiveness of the waiver and extension of the project period to alleviate financial and administrative burden.

Discussion: The Department appreciates the commenter's analysis of arguments for and against the proposed notice of waiver and extension of the project period with funding and carefully considered them in its decision making. The Department will monitor grantees in accordance with applicable regulations: (a) The Education Department General Administrative Regulations in 34 CFR parts 75, 77, 79, 81, 82, 84, 86, 97, 98, and 99; (b) The Office of Management and Budget Guidelines to Agencies on Governmentwide Debarment and Suspension (Nonprocurement) in 2 CFR part 180, as adopted and amended as regulations of the Department in 2 CFR part 3485; and (c) The Uniform Administrative Requirements, Cost Principles, and Audit Requirements for Federal Awards in 2 CFR part 200, as adopted and amended as regulations of the Department in 2 CFR part 3474. Additionally, the Department will assess grant performance through annual reporting and tracking of expenditures to ensure that project milestones for both the current budget period and the additional budget period are met in a timely and efficient manner, thus mitigating potential program and financial risk.

Change: None.

Final Waiver and Extension of the Project Period With Funding

The Department believes aligning the projects' period of performance for ALNs 84.263C, 84.263E, and 84.263F is in the best interest of the public, as the extension reduces the financial and administrative burden by allowing the Department to conduct a single competition for 84.263C, 84.263E, and 84.263F in FY 2025, with a five-year performance period that would run from October 1, 2025, through September 30, 2030.

Consequently, the Secretary waives the requirements in 34 CFR 75.250, which prohibit project periods exceeding five years, as well as the requirements in 34 CFR 75.261(a) and (c)(2), which allow the extension of a project period only if the extension does not involve the obligation of additional Federal funds. This waiver allows the Department to issue a one-year FY 2024 continuation award to each of the seven currently funded FY 2019 84.263C projects. Any activities carried out during the year of this continuation award must be consistent with the scope, goals, and objectives of the grantees' applications as approved in the FY 2019 competition. The requirements for continuation awards are set forth in 34 CFR 75.253.

Regulatory Flexibility Act Certification

The Secretary certifies that the final waiver and extension of the project period with funding would not have a significant economic impact on a substantial number of small entities. The only entities that would be affected by the final waiver and extension of the project period with funding are the seven grants that were awarded in FY 2019 under ALN 84.263C.

The Secretary certifies that the final waiver and extension would not have a significant economic impact on these entities, because the extension of an existing project period imposes minimal compliance costs, and the activities required to support the additional year of funding would not impose additional regulatory burdens or require unnecessary Federal supervision.

Paperwork Reduction Act of 1995

This notice of final waiver and extension of the project period with funding does not contain any information collection requirements.

Intergovernmental Review

These programs are subject to Executive Order 12372 and the regulations in 34 CFR part 79. One of the objectives of the Executive order is to foster an intergovernmental partnership and a strengthened federalism. The Executive order relies on processes developed by State and local governments for coordination and review of proposed Federal financial assistance.

This document provides final notification of our specific plans and actions for this program.

Accessible Format: On request to the program contact person listed under FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Danté Allen,
Commissioner, Rehabilitation Services Administration, Office of Special Education and Rehabilitative Services.

[FR Doc. 2023-28375 Filed 12-26-23; 8:45 am]

BILLING CODE 4000-01-P